DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before October 7, 2024. If you anticipate any difficulty in submitting comments within that period, contact the person listed in the FOR FURTHER INFORMATION CONTACT section as soon as possible.

ADDRESSES: Written comments may be sent to Yohanna Freeman, PRA Officer, Office of the Chief Information Officer; 1000 Independence Avenue SW, Washington, DC 20585 or by email at DOEPRA@hq.doe.gov.

FOR FURTHER INFORMATION CONTACT: Yohanna Freeman, PRA Officer, Office of the Chief Information Officer; 1000 Independence Avenue SW, Washington, DC 20585; DOEPRA@hq.doe.gov; (202) 586-2255.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: Meetings, Events, Workshops and Conferences Request;

(3) Type of Request: New collection;

(4) Purpose: DOE seeks to collect information from members of the public requesting meetings or appearances with the Secretary or other Senior Officials and those who seek to register to participate in DOE-sponsored meetings, events and conferences. Information will be collected from multiple types of respondents including individuals, Businesses or other for-profit organizations, not-for-profit institutions, the Federal Government, and State, Local, or Tribal Government entities.

DOE intends to collect common elements from interested respondents such as name, organization, address, country, phone number, email address, state, city or town, special accommodations requests and how the respondent learned about the meeting, event or conference. The information collected may also include race, ethnicity, gender and veteran status, and other sensitive information.

The information collected will be used to assess attendance and assist DOE staff in preparing to serve individuals registering for online or in person events. If applicable, the information collection may be used to collect payment from the respondents and make hotel reservations and other special arrangements as necessary.

This collection will allow for ongoing, collaborative and actionable communication between the Agency and its customers and stakeholders.

(5) Annual Estimated Number of Respondents: 12,000;

(6) Annual Estimated Number of Total Responses: 12,000;

(7) Annual Estimated Number of Burden Hours: 900 hours;

(8) Annual Estimated Reporting and Recordkeeping Cost Burden: $0.

Statutory Authority: Executive Order (E.O.) 13571, Streamlining Service Delivery and Improving Customer Service.

Signing Authority

This document of the Department of Energy was signed on July 31, 2024, by Ann Dunkin, Chief Information Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 1, 2024.
Treena V. Garrett,
Federal Register Liaison Officer, U.S. Department of Energy.

[FR Doc. 2024-17354 Filed 8-5-24; 8:45 am]

BILLING CODE 6450-01-P